DEPARTMENT OF THE TREASURY

Office of Thrift Supervision

Century Bank, a Federal Savings Bank, Sarasota, FL; Notice of Appointment of Receiver

Notice is hereby given that, pursuant to the authority contained in section 5(d)(2) of the Home Owners' Loan Act, the Office of Thrift Supervision has duly appointed the Federal Deposit Insurance Corporation as sole Receiver for Century Bank, a Federal Savings Bank, Sarasota, Florida (OTS No. 08071), as of November 13, 2009.

Dated: November 16, 2009.
By the Office of Thrift Supervision.
Sandra E. Evans,
Federal Register Liaison.

[FR Doc. E9-27992 Filed 11-20-09; 8:45 am]

BILLING CODE 6720-01-P